LEGAL SERVICES CORPORATION

Sunshine Act Meetings

TIME AND DATE: The Legal Services Corporation (LSC) Board of Directors and its Finance and Audit committees will meet January 26-27, 2026. On Monday, January 26, the first meeting will begin at 3:00 p.m. CT, with the next meeting commencing promptly upon adjournment of the immediately preceding meeting. On Tuesday, January 27, the first meeting will begin at 10:00 a.m. CT, with the next meeting commencing promptly upon adjournment of the immediately preceding meeting.

PLACE: Public Notice of Hybrid Meeting.

LSC will conduct its January 26-27, 2026, meetings at the Grand Hyatt San Antonio, 600 E Market St., San Antonio, TX, 78205, and virtually via videoconference.

Public Observation: Unless otherwise noted herein, the Board and all committee meetings will be open to public observation via LSC's YouTube channel: https://www.youtube.com/@LegalServicesCorp/streams.

STATUS: Open, except as noted below.

Audit Committee—Open, except that, upon a vote of the Board of Directors, the meeting may be closed to the public to discuss the FY25 audit and timeline, to discuss follow-up work by the Office of Compliance and Enforcement relating to open Office of Inspector General investigations and to discuss a grantee oversight activities.

Finance Committee—Open, except that, upon a vote of the Board of Directors, the meeting may be closed to the public to discuss LSC's banking services and investment governance framework and advisor selection process.

Board of Directors—Open, except that, upon a vote of the Board of Directors, a portion of the meeting may be closed to the public to receive briefings from Management and the Inspector General and to consider and act on potential and pending litigation involving LSC as well as a list of prospective Leaders Council and Emerging Leaders Council members.

Any portion of the closed session consisting solely of briefings does not fall within the Sunshine Act's definition of the term “meeting” and, therefore, the requirements of the Sunshine Act do not apply to such portion of the closed session.

A verbatim written transcript will be made of the closed sessions of the Audit, Finance, and Board of Directors meetings. The transcript of any portions of the closed sessions falling within the relevant provisions of the Government in the Sunshine Act, 5 U.S.C. 552b(c)(6), (7), (9) and (10), will not be available for public inspection. A copy of the General Counsel's Certification that, in his opinion, the closing is authorized by law will be available upon request.

MATTERS TO BE CONSIDERED:

Meeting Schedule

Monday, January 26, 2026

Start Time (all CT)

1. Audit Committee Meeting, 3:00 p.m. CT

a. Matters to be discussed include the Committee's self-evaluation for 2025; briefing by the Office of Inspector General; review of LSC's and the Office of Inspector General's mechanisms for the submission of confidential complaints regarding suspected fraud, theft, corruption, or misuse of funds, or problems involving internal controls, auditing, or accounting, and that there are proper procedures in place for the receipt, retention, and handling of such complaints; a briefing regarding follow-up by the Office of Compliance and Enforcement on referrals by the Office of Inspector General regarding audit reports and annual financial statement audits of grantees; an overview of changes to the A-50 Reporting Process; and a management update regarding Risk Management.

2. Finance Committee Meeting

a. Matters to be discussed include the Committee's self-evaluation for 2025; an overview of LSC's Fiscal Year 2026 appropriation; financial report for the first two months of Fiscal Year 2026; LSC's Fiscal Year 2026 consolidated operating budget; and LSC's Fiscal Year 2027 appropriation request.

Tuesday, January 27, 2026

Start Time (all CT)

1. LSC Board of Directors, 10:00 a.m. CT

a. Matters to be discussed include nominations for the Chair and Vice-Chair of the Board of Directors and all committee assignments; the Board's self-evaluation for 2025; Chairman's Report; Members' Reports; President's Report; Inspector General's Report; and consideration of reports from the Institutional Advancement, Delivery of Legal Services, Operations and Regulations, Governance and Performance Review, Audit, and Finance Committees.

CONTACT PERSON FOR MORE INFORMATION: Jessica Wechter, Special Assistant to the President, at (202) 295-1500. Questions may also be sent by electronic mail to the Office of the Corporate Secretary at updates@lsc.gov.

Non-Confidential Meeting Materials: Non-confidential meeting materials will be made available in electronic format at least 24 hours in advance of the meeting on the LSC website, at https://www.lsc.gov/about-lsc/board-meeting-materials.

(Authority: 5 U.S.C. 552b.)

Dated: January 15, 2026.
Stefanie Davis,
Deputy General Counsel, Legal Services Corporation.

[FR Doc. 2026-01020 Filed 1-15-26; 4:15 pm]

BILLING CODE 7050-01-P